DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 25, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: 2027 Farm to School Census.

OMB Control Number: 0584-0646.

Summary of Collection: The intended purpose of this information collection is to administer the 2027 Farm to School Census (Census), previously titled 2023 Farm to School Census. This information collection request is for a revision and extension for three years to the currently approved Farm to School Census and Comprehensive Review (OMB Number 0584-0646, expiration date 5/31/2025).

Section 18 of the Richard B. Russell National School Lunch Act (NSLA) authorized and funded the U.S. Department of Agriculture (USDA) to establish a farm to school program to assist eligible entities, through grants and technical assistance, in implementing farm to school programs that improve food and agriculture education as well as access to local foods in schools. This work is housed within the Food and Nutrition Service (FNS) Community Food Systems Division (CFSD). As part of the Farm to School Program's authorization, CFSD collects and disseminates information on farm to school activities throughout the country. The Census provides the only nationally representative data available on farm to school participation and activities in the United States. It also compiles detailed information about State- and school food authority (SFA)-level farm to school engagement.

Need and Use of the Information: The 2027 Census will collect and synthesize data from a national census of SFAs to fulfill the following study objectives:

(1) establish the scope of SFA participation in farm to school activities and the characteristics of participating SFAs;

(2) describe details of SFA participation in certain farm to school activities (especially procurement of local foods);

(3) assess sources of support for farm to school activities and identify areas for additional assistance; and

(4) compare findings across different types of SFAs (i.e., based on characteristics such as size, urbanicity, and eligibility for free and reduced-price meals) and to findings from the 2023 and 2019 Census.

The results of this study will be used to assess farm to school program engagement and to set priorities for USDA outreach and technical support, as mandated by the NSLA.

Description of Respondents: State, Local and Tribal Governments, Businesses.

Number of Respondents: 18,665.

Frequency of Responses: Reporting: Once, Annually.

Total Burden Hours: 18,226.

Rachelle Ragland-Greene,
Departmental Information Collection Clearance Officer.

[FR Doc. 2025-05130 Filed 3-25-25; 8:45 am]

BILLING CODE 3410-30-P